DEPARTMENT OF HEALTH AND HUMAN SERVICES

Centers for Disease Control and Prevention

[Program Announcement 02098]

Expansion of HIV/AIDS Care Services in Côte d'Ivoire; Notice of Availability of Funds

A. Purpose

The Centers for Disease Control and Prevention (CDC) announces the availability of fiscal year (FY) 2002 funds for a cooperative agreement program for the expansion of HIV/AIDS care services in the Republic of Côte d'Ivoire.

The purpose of this cooperative agreement is to strengthen and expand the community response to Human Immunodeficiency Virus (HIV/AIDS) care services in the ten communities of Abidjan, the capital of Côte d'Ivoire, and selected secondary cities throughout the country.

B. Eligible Applicants

Applications may only be submitted by public and private non-profit and for profit-organizations, state and local governments or their bona fide agents, that currently conduct HIV/AIDS work in Côte d'Ivoire.

Applicants must have at least five years experience in HIV/AIDS work in Côte d'Ivoire including: Community mobilization for prevention of HIV/AIDS and promotion of voluntary counseling and testing; successful working relationships with both local and national government offices such as the mayors' office and the Ministries of Health and AIDS; establishment of support groups for people living with AIDS(PLWA); knowledge and understanding of resources available to create referral networks for clinical and psycho-social support for PLWA and families.

Note: Title 2 of the United States Code section 1611 states that an organization described in section 501(c)(4) of the Internal Revenue Code that engages in lobbying activities is not eligible to receive Federal funds constituting an award, grant, or loan.

C. Availability of Funds

Approximately $200,000 is available in FY 2002 to fund this award. It is expected that the average award will begin on or about September 30, 2002, and will be made for a 12-month budget period within a project period of up to three years. Annual funding estimates may change.

Continuation awards within the approved project period will be made on the basis of satisfactory progress as evidenced by required reports and the availability of funds.

1. Use of Funds

Funds received from this announcement will not be used for the purchase of antiretroviral drugs for treatment of established HIV infection (with the exception nevirapine in Prevention of Mother to Child Transmission (PMTCT) cases and with prior written approval), occupational exposures, and non-occupational exposures and will not be used for the purchase of machines and reagents to conduct the necessary laboratory monitoring for patient care.

Applicants may contract with other organizations under these cooperative agreements, however, applicants must perform a substantial portion of the activities (including program management, operations and delivery of prevention services) for which funds are requested.

The costs that are generally allowable in grants to domestic organizations are likewise allowable to foreign institutions and international organizations, with the following exceptions:

Indirect Costs: With the exception of the American University, Beirut, the Gorgas Memorial Institute, and the World Health Organization (WHO), indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

No funds appropriated under this Act shall be used to carry out any program of distributing sterile needles or syringes for the hypodermic injection of any illegal drug.

D. Program Requirements

In conducting activities to achieve the purpose of this program, the recipient will be responsible for the activities under 1. Recipient Activities, and CDC will be responsible for the activities listed under 2. CDC Activities.

1. Recipient Activities

a. Collaborate with the Ministry of AIDS (MOA) and the Ministry of Health (MOH), regional health departments, and mayoral offices to carry out activities.

b. Train healthcare workers to improve quality of care for PLWHA and act as focal points for the development of PLWHA support groups.

c. Identify and train community facilitators to work with health clinics to build support group capacity to provide psycho-social support, teach skills building, and income generating activities.

d. Build capacity of support groups to facilitate community responses that include: Raising awareness of HIV/AIDS, Voluntary Counseling and Testing (VCT) services, behavior change communication for youth, home-based care, nutrition support, resource mobilization, and orphan support.

e. Establish a referral network at community health clinics and other care facilities so that people who are HIV positive can be referred to the nearest community support groups.

f. Establish a referral network at VCT centers so HIV positive people can be referred to community support groups and care and treatment centers.

g. Prepare a workplan and an annual budget for activities.

2. CDC Activities

a. Collaborate with the recipient to design and support the activities listed above.

b. Monitor project performance and budget.

c. Approve the selection of key personnel to be involved in the activities performed under this cooperative agreement.

E. Application Content

Use the information in the Program Requirements, Other Requirements, and Evaluation Criteria sections to develop the application content. Applications will be evaluated against the criteria listed below. Therefore, it is important to lay out your program plans accordingly. The narrative should be no more than 25 doublespaced pages, printed on one side, with one-inch margins, and unreduced font. Pages should be numbered and a complete index to the application and any appendices must be included.

The narrative should consist of, at a minimum, a Plan, Objectives, Methods, Evaluation and Budget.

F. Application Submission and Deadline

Submit the original and two copies of PHS FORM 5161-1. Forms are available in the application kit and at the following Internet address: http://www.cdc.gov/od/pgo/forminfo/htm. On or before June 14, 2002 submit the application to the Technical Information Management Section, Procurement and Grants Office, 2920 Brandywine Road, Suite 3000, Atlanta, Georgia 30341.

Deadline:

Applications shall be considered as meeting the deadline if they are either:

Received on or before the deadline date; or

Sent on or before the deadline date and received in time for submission to the independent review group.

Applications which do not meet the criteria in 1. or 2. above will be considered late and will be returned to the applicant.

G. Evaluation Criteria

Each application will be evaluated individually against the following criteria by an independent review group appointed by CDC. Applications should consist of: Plan, Objectives, Methods, Evaluation, Budget that demonstrate/describe:

1. Understanding of the problem (20 points)

Extent to which the applicant demonstrates a clear and concise understanding of the nature of the problem described in the Purpose section of this announcement. This specifically includes description of the public health importance of the planned activities to be undertaken and realistic presentation of proposed objectives and projects.

2. Technical approach (25 points)

The extent to which the applicant's proposal includes an overall design strategy, including measurable time lines, the extent to which the proposal addresses regular monitoring and evaluation, and the potential effectiveness of the proposed activities in meeting objectives.

3. Ability to carry out the project (20 points)

The extent to which the applicant documents demonstrated capability to achieve the purpose of the project.

4. Personnel (20 points)

The extent to which professional personnel involved in this project are qualified, including evidence of experience in care and support for people living with AIDS, experience mobilizing communities, and experience as facilitators for training concerning

5. Plans for administration and management of projects (15 points)

Adequacy of the proposed plans for administering the projects.

6. Budget (Reviewed But Not Scored)

The extent to which itemized budget for conducting the project, along with justification, is reasonable and consistent with stated objectives and planned program activities.

7. Human Subjects (Reviewed But Not Scored)

The extent to which the application adequately addresses the requirements of 45 CFR 46 for the protection of human subjects.

H. Other Requirements

Provide CDC with the original plus two copies of:

1. Progress reports (semi-annual); a brief, comprehensive narrative progress report should be submitted no later than 90 days after the end of the budget period. The progress report must include the following: (a) A comparison of the actual accomplishments to the objectives established; (b) the reasons for slippage if established objectives were not met; (c) other pertinent information.

2. Measures of effectiveness that will demonstrate the accomplishment of the various identified objectives of the grant/cooperative agreement. Measures must be objective/quantitative and must measure the intended outcome. These Measures of Effectiveness shall be submitted with your application and shall be an element of evaluation.

3. Financial status report, no more than 90 days after the end of the budget period.

4. Final financial report and performance report, no more than 90 days after the end of the project period.

Obtain annual audit of these CDC funds (program-specific audit) by a United states based audit firm with international branches and current licensure/authority in country, and in accordance with International Accounting Standards or equivalent standard(s) approved in writing by CDC.

A fiscal Recipient Capability Assessment may be required with the potential awardee, prior or post award, in order to review their business management and fiscal capabilities regarding the handling of U.S. Federal funds.

Send all reports to the Grants Management Specialist identified in the “Where to Obtain Additional Information” section of this announcement.

The following additional requirements are applicable to this program. For a complete description of each, see Attachment I of the announcement.

AR-1 Human Subjects

AR-4 HIV/AIDS Confidentiality Provisions

AR-5 HIV Program Review Panel Requirements

AR-6 Patient Care

AR-14 Accounting Systems Requirement

I. Authority and Catalog of Federal Domestic Assistance Number

This program is authorized under section 301(a) and 307 of the Public Health Service Act, (42 U.S.C. section 241(a) and 242l), as amended and section 317 of the PHS Act (42 U.S.C. 247b). The Catalog of Federal Domestic Assistance number is 93.947.

J. Where To Obtain Additional Information

This and other CDC announcements can be found on the CDC home page Internet address— http://www.cdc.gov/ Click on “Funding” then “Grants and Cooperative Agreements.”

If you have questions after reviewing the contents of all the documents, business management technical assistance may be obtained from: Dorimar Rosado, Grants Management Specialist, Grants Management Branch, Procurement and Grants Office, Centers for Disease Control and Prevention, 1600 Clifton Road, Mailstop E-15, Atlanta, GA 30333, Telephone number: (770) 488-2782, E-Mail: dpr7@cdc.gov

For program technical assistance, contact: Karen Ryder, MPH, CDC/HIV 2010 Abidjan Place, Dulles, VA 20189-2010, Telephone: (225)21-25-41-89, E-Mail address: kkr1@cdc.gov

Dated: May 4, 2002.
Sandra R. Manning,
Director, Procurement and Grants Office, Center for Disease Control and Prevention.

[FR Doc. 02-11551 Filed 5-8-02; 8:45 am]

BILLING CODE 4163-18-P